FEDERAL COMMUNICATIONS COMMISSION

FCC To Hold Open Commission Meeting, Wednesday, May 25, 2016

May 18, 2016.

The Federal Communications Commission will hold an Open Meeting on the subjects listed below on Wednesday, May 25, 2016 which is scheduled to commence at 10:30 a.m. in Room TW-C305, at 445 12th Street SW., Washington, DC.

Item No. | Bureau | Subject
1 | Media | Title: Revisions to Public Inspection File Requirements— Broadcaster Correspondence File and Cable Principal Headend Location (MB Docket No. 16-161). Summary: The Commission will consider a Notice of Proposed Rulemaking that seeks comment on proposals to eliminate the requirement that commercial broadcast stations retain copies of letters and emails from the public in their public inspection file and the requirement that cable operators reveal the location of the cable system's principal headend.
2 | Public Safety & Homeland Security Bureau | Title: Amendments to Part 4 of the Commission's Rules Concerning Disruptions to Communications (PS Docket No. 15-80); New Part 4 of the Commission's Rules Concerning Disruptions to Communications (ET Docket No. 04-35); The Proposed Extension of Part 4 of the Commission's Rules Regarding Outage Reporting to Interconnected Voice Over Internet Protocol Service Providers and Broadband Internet Service Providers (PS Docket No. 11-82). Summary: The Commission will consider a Report and Order, Further Notice of Proposed Rulemaking, and Order on Reconsideration to update its Part 4 communications network outage reporting requirements.
3 | Wireline Competition | Title: Connect America Fund (WC Docket No. 10-90); ETC Annual Reports and Certifications (WC Docket No. 14-58); and Rural Broadband Experiments (WC Docket No. 14-259). Summary: The Commission will consider a Report & Order and Further Notice of Proposed Rulemaking regarding a competitive bidding process for high-cost universal service support from Phase II of the Connect America Fund.
* * * * * * *
Consent Agenda
The Commission will consider the following subjects listed below as a consent agenda and these items will not be presented individually:
1 | Media | Title: PMCM TV, LLC Licensee of Station WJLP(TV), Middletown Township, New Jersey. Summary: The Commission will consider an Order concerning a Consent Decree entered into between the Commission and PMCM TV, LLC regarding compliance with children's programming requirements.
2 | Enforcement | Title: Enforcement Bureau Action. Summary: The Commission will consider whether to take an enforcement action.
3 | Enforcement | Title: Enforcement Bureau Action. Summary: The Commission will consider whether to take an enforcement action.
4 | Enforcement | Title: Enforcement Bureau Action. Summary: The Commission will consider whether to take an enforcement action.
5 | Enforcement | Title: Enforcement Bureau Action. Summary: The Commission will consider whether to take an enforcement action.
6 | Enforcement | Title: Enforcement Bureau Action. Summary: The Commission will consider whether to take an enforcement action.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-12399 Filed 5-25-16; 8:45 am]

BILLING CODE 6712-01-P